DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 31, 2005.

Interested persons are invited to submit written comments regarding the subject matter of the investigations to the Director, Division of Trade Adjustment Assistance, at the address shown below, not later than May 31, 2005.

The petitions filed in this case are available for inspection at the Office of the Director, Division of Trade Adjustment Assistance, Employment and Training Administration, U.S. Department of Labor, Room C-5311, 200 Constitution Avenue, NW., Washington, DC 20210.

Signed at Washington, DC this 13th day of May 2005.
Timothy Sullivan,
Director, Division of Trade Adjustment Assistance.

Appendix
[Petitions instituted between 04/25/2005 and 04/29/2005]
TA-W | Subject firm (petitioners) | Location | Date of institution | Date of petition
57,033 | Brandon Hosiery (State) | Fort Payne, AL | 04/25/2005 | 04/21/2005
57,034 | Grover Industries, Inc. (Comp) | Grover, NC | 04/25/2005 | 04/25/0205
57,035 | Deroyal (Stat Medical) (Wkrs) | New Tazewell, TN | 04/25/2005 | 04/15/2005
57,036 | CRI Advantage (State) | Corvallis, OR | 04/25/2005 | 04/19/2005
57,037 | Ametek (Comp) | Bartow, FL | 04/25/2005 | 04/22/2005
57,038 | Sunrock, LLC (State) | Dover, DE | 04/25/2005 | 04/22/2005
57,039 | Davlyn Manufacturing Co., Inc. (Wkrs) | Spring City, PA | 04/25/2005 | 04/22/2005
57,040 | Higgins Seaming (State) | Rainsville, AL | 04/25/2005 | 04/20/2005
57,041 | Louisiana-Pacific Corporation (Comp) | Hayden Lake, ID | 04/25/2005 | 04/19/2005
57,042 | KMedic (Comp) | Northvale, NJ | 04/25/2005 | 04/20/2005
57,043 | Haz-Waste (Wkrs) | Mayfield, KY | 04/25/2005 | 04/13/2005
57,044 | Hewlett-Packard (State) | Covallis, OR | 04/25/2005 | 04/19/2005
57,045 | Locklear Hosiery, Inc. (Comp) | Fort Payne, AL | 04/25/2005 | 04/06/2005
57,046 | Bernhardt Furniture, Inc. (Wkrs) | Lenoir, NC | 04/25/2005 | 04/17/2005
57,047 | Woodbridge (Comp) | Brodhead, WI | 04/25/2005 | 04/21/2005
57,048 | Osram Sylvania (Comp) | Lake Zurich, IL | 04/25/2005 | 04/14/2005
57,049 | Acuity Lighting Group, Inc. (State) | Conyers, GA | 04/25/2005 | 04/21/2005
57,050 | Emcore Corp. (Wkrs) | Alhambra, CA | 04/25/2005 | 04/14/2005
57,051 | Trend Technologies, Inc. (State) | Hayward, CA | 04/25/2005 | 04/13/2005
57,052 | Sitel/Nafs (NPC) | Norcross, GA | 04/25/2005 | 04/11/2005
57,053 | Armstrong Wood Products (IBC) | Nashville, TN | 04/26/2005 | 04/25/2005
57,054 | Transpro, Inc. (Comp) | Buffalo, NY | 04/26/2005 | 04/26/2005
57,055 | Integrated Device Technology, Inc. (Wkrs) | Santa Clara, CA | 04/26/2005 | 04/19/2005
57,056 | Precise Polestar (Wkrs) | State College, PA | 04/27/2005 | 04/26/2005
57,057 | Com-Fo Hosiery Mills (Comp) | Henderson, NC | 04/27/2005 | 04/20/2005
57,058 | Riddle and Company, LLC (Wkrs) | Burlington, NC | 04/27/2005 | 04/22/2005
57,059 | Dell Financial Services (Wkrs) | Austin, TX | 04/27/2005 | 04/26/2005
57,060 | Wolf Range Company, LLC (State) | Compton, CA | 04/27/2005 | 04/26/2005
57,061 | Copland Fabrics (Comp) | Burlington, NC | 04/27/2005 | 04/19/2005
57,062 | Fisher Scientific Co. (Comp) | Indiana, PA | 04/27/2005 | 04/26/2005
57,063 | Bristol-Meyers Squibb (Wkrs) | Princeton, NJ | 04/28/2005 | 04/27/2005
57,064 | Qualipac America (State) | Wayne, NJ | 04/28/2005 | 04/27/2005
57,065 | Galileo International (State) | Centennial, CO | 04/28/2005 | 04/27/2005
57,066 | Second Chance Body Armor, Inc. (Comp) | Central Lake, MI | 04/28/2005 | 04/27/2005
57,067 | Unit Parts Co. (Comp) | Oklahoma City, OK | 04/28/2005 | 04/18/2005
57,068 | Johnson and Johnson CPC (Comp) | Royston, GA | 04/28/2005 | 04/15/2005
57,069 | Eaton—Hydraulics (Comp) | Vinita, OK | 04/28/2005 | 04/14/2005
57,070 | Royal Home Fashions (Wkrs) | Oxford, NC | 04/29/2005 | 04/28/2005
57,071 | Makita Corp. of America (Comp) | Buford, GA | 04/29/2005 | 04/28/2005
57,072 | Suez Energy Generation (Wkrs) | Hodges, SC | 04/29/2005 | 04/25/2005
57,073 | Kopin Optical (State) | Taunton, MA | 04/29/2005 | 04/27/2005
57,074 | Robinson-Ransbottom Pottery Co. (Comp) | Roseville, OH | 04/29/2005 | 04/22/2005
57,075 | Accuride International, Inc. (Comp) | Santa Fe Spring, CA | 04/29/2005 | 04/26/2005
57,076 | Plasco (UNITE) | Gurnee, IL | 04/29/2005 | 04/29/2005
57,077 | Radicispandex Corp. (Comp) | Fall River, MA | 04/29/2005 | 04/28/2005
57,078 | Allied Bias Products (State) | Jersey City, NJ | 04/29/2005 | 04/27/2005
57,079 | Lyons Diecasting (Wkrs) | Buckner, MO | 04/29/2005 | 04/20/2005
57,080 | Leviton Mfg. Co., Inc. (Comp) | Warwick, RI | 04/29/2005 | 04/28/2005

[FR Doc. E5-2519 Filed 5-18-05; 8:45 am]

BILLING CODE 4510-30-P